DEPARTMENT OF JUSTICE

Notice of Lodging of Second Modification to Consent Decree Under Clean Air Act

Under 28 CFR 50.7, notice is hereby given that on March 19, 2010, a Second Modification (“Second Modification”) to the November 2005 First Revised Consent Decree (“First Revised Consent Decree”) in the case of United States, et al. v. Marathon Ashland Petroleum LLC, Civil Action No. 01-40119 (PVG), was lodged with the United States District Court for the Eastern District of Michigan.

Under the Second Modification, MPC must continue to comply with the First Revised Consent Decree, but, in addition, MPC will pay a civil penalty of $408,000 and perform two Supplemental Environmental Projects valued at approximately $963,000 at its Canton and Catlettsburg Refineries in settlement of claims that MPC violated the Benzene Waste Operations NESHAP (“BWON”), 40 CFR part 61, subpart FF, and the BWON provisions of the November 2005 First Revised Consent Decree at those two refineries. In addition, MPC will pay a stipulated penalty of $3,933 to resolve claims involving flaring incidents at the Canton, Catlettsburg, Detroit, and Robinson Refineries. Finally, the Second Modification amends two Appendices to the First Revised Consent Decree to reflect a 2008 regulatory change that EPA made to the New Source Performance Standards for Petroleum Refineries.

The Department of Justice will receive for a period of thirty (30) days from the date of this publication comments relating to the Second Modification. Comments should be addressed to the Assistant Attorney General, Environment and Natural Resources Division, and either emailed to pubcomment-ees.enrd@usdoj.gov or mailed to P.O. Box 7611, U.S. Department of Justice, Washington, DC 20044-7611, and should refer to United States, et al. v. Marathon Ashland Petroleum LLC, D.J. Ref. No. 90-5-2-1-07247.

The Second Modification may be examined at the Office of the United States Attorney, 211 W. Fort St., Suite 2300, Detroit, Michigan 48226, and at U.S. EPA Region 5, 77 W. Jackson St., Chicago, IL 60604. During the public comment period, the Second Modification may also be examined on the following Department of Justice Web site: http://www.usdoj.gov/enrd/Consent_Decrees.html. A copy of the Second Modification may also be obtained by mail from the Consent Decree Library, P.O. Box 7611, U.S. Department of Justice, Washington, DC 20044-7611, or by faxing or e-mailing a request to Tonia Fleetwood (tonia.fleetwood@usdoj.gov), fax number (202) 514-0097, phone confirmation number (202) 514-1547. In requesting a copy from the Consent Decree Library, please enclose a check in the amount of $3.75 (25 cents per page reproduction cost) payable to the U.S. Treasury, or, if by e-mail or fax, forward a check in that amount to the Consent Decree Library at the stated address.

Maureen M. Katz,
Assistant Section Chief, Environmental Enforcement Section, Environment and Natural Resources Division.

[FR Doc. 2010-6673 Filed 3-25-10; 8:45 am]

BILLING CODE 4410-15-P